DEPARTMENT OF HOMELAND SECURITY

Federal Emergency Management Agency

[Docket ID FEMA-2011-0022]

Preliminary Damage Assessment for Individual Assistance Operations Manual (9327.2-PR)

AGENCY: Federal Emergency Management Agency, DHS.

ACTION: Notice of availability.

SUMMARY: This document provides notice of the availability of the final Preliminary Damage Assessment for Individual Assistance Operations Manual (9327.2-PR). The Federal Emergency Management Agency (FEMA) published a notice of availability and request for comment for the proposed policy on October 13, 2011.

DATES: This manual is effective July 18, 2012.

ADDRESSES: This final manual is available online at http://www.regulations.gov and on FEMA's Web site at http://www.fema.gov. The proposed and final manual, all related Federal Register Notices, and all public comments received during the comment period are available at http://www.regulations.gov under docket ID FEMA-2011-0022. You may also view a hard copy of the final manual at the Office of Chief Counsel, Federal Emergency Management Agency, Room 835, 500 C Street SW., Washington, DC 20472.

FOR FURTHER INFORMATION CONTACT: Michael M. Grimm, Individual Assistance Director, Individual Assistance Division, Federal Emergency Management Agency, 500 C Street SW., Washington, DC 20472, 202-212-1000.

SUPPLEMENTARY INFORMATION: The Preliminary Damage Assessment for Individual Assistance Operations Manual (PDA Manual) was developed to create uniform procedures for performing Individual Assistance (IA) Preliminary Damage Assessments (PDAs), nationwide, in response to an impacted State's request. The primary purpose for conducting IA PDAs is to identify the impact, type, and extent of disaster damages and to determine the impact on individuals and communities while identifying the resources needed for the community to recover.

The PDA is an important first step in the disaster declaration process. The information collected during a PDA will be used by the State to determine if the response and recovery actions will require Federal support. If the Governor determines that the State does not have adequate resources to respond and recover from the disaster, and supplemental Federal assistance is required, the Governor may request a Presidential emergency or major disaster declaration under sections 401 and 501 of the Robert T. Stafford Disaster Relief and Emergency Assistance Act, as amended (42 U.S.C. 5170 and 5191). The PDA information, along with the Governor's request, is included with the Regional Administrator's Validation and Recommendation and is forwarded to FEMA for review. FEMA then prepares a recommendation to the President based on the PDA information and the Regional Administrator's Validation and Recommendation. Establishing a single set of PDA procedures ensures that regardless of the location, type of disaster, or FEMA regional office involved, the assessment of damages will be consistent, thorough, and well coordinated.

The PDA Manual supersedes FEMA Manual 9327.1 PR, Preliminary Damage Assessment for Individual Assistance Operations Manual, dated April 2005. It incorporates procedures developed and used by individual FEMA regional offices in the course of conducting PDAs throughout the United States in a variety of disasters over several years. It reflects FEMA's extensive experience working with State and local governments. The PDA Manual is intended to set the standard for defining and recording levels of damage, as well as to establish uniformity in the composition of teams and the means by which data is collected.

FEMA received 10 comments on the draft PDA Manual and made revisions accordingly. This final PDA Manual does not have the force or effect of law.

Authority: The PDA Manual is consistent with and supports the current plans and procedures of the National Response Framework for implementation of the Robert T. Stafford Disaster Relief and Emergency Assistance Act, as amended, 42 U.S.C. 5121 et seq. and its implementing regulations in Title 44, Chapter I of the Code of Federal Regulations.

W. Craig Fugate,
Administrator, Federal Emergency Management Agency.

[FR Doc. 2012-18133 Filed 7-24-12; 8:45 am]

BILLING CODE 9111-23-P